DEPARTMENT OF COMMERCE

International Trade Administration

A-533-809

Certain Forged Stainless Steel Flanges from India: Notice of Partial Rescission of New Shipper Reviews

AGENCY: Import Administration, International Trade Administration, Department of Commerce.

SUMMARY: The Department of Commerce (the Department) is rescinding new shipper reviews of three companies for whom it had initiated new shipper reviews on April 6, 2006. See Stainless Steel Flanges from India: Notice of Initiation of Antidumping Duty New Shipper Reviews, 71 FR 17439 (April 6, 2006). Our basis for rescinding these new shipper reviews is described below.

EFFECTIVE DATE: September 29, 2006.

FOR FURTHER INFORMATION CONTACT: Fred Baker or Robert James, AD/CVD Operations, Office 7, Import Administration, International Trade Administration, U.S. Department of Commerce, 14th Street and Constitution Avenue, NW., Washington, DC 20230; telephone: (202) 482 2924 or (202) 482-0649, respectively.

SUPPLEMENTARY INFORMATION:

Background

On February 28, 2006, we received requests from four Indian manufacturers of forged stainless steel flanges for “a new shipper review... and (failing that) an administrative review.” Those four companies were Kunj Forgings Pvt. Ltd. (Kunj), Micro Forge (India) Ltd. (Micro), Pradeep Metals Limited (Pradeep), and Rollwell Forge, Ltd. (Rollwell). On April 5, 2006, we initiated an administrative review of each of these companies. See Initiation of Antidumping and Countervailing Duty Administrative Reviews and Deferral of Administrative Reviews, 71 FR 17077 (April 5, 2006). On April 6, 2006, based on the certifications and documentation these companies submitted, we initiated a new shipper review of each of them. See Stainless Steel Flanges from India: Notice of Initiation of Antidumping Duty New Shipper Reviews, 71 FR 17439 (April 6, 2006). The period of review for both the administrative review and the new shipper reviews is February 1, 2005, through January 31, 2006.

We issued antidumping questionnaires for both the administrative review and the new shipper review to each of the four companies on April 6, 2006. We received section A responses from all four companies on May 8, 2006. We received section B responses from Kunj, Pradeep, and Rollwell on May 31, 2006. We received a section D response from Micro (which reported that its home market was not viable) and from Pradeep on May 31, 2006. We also received section C responses from all four respondents on May 31, 2006.

Subsequent to initiating the new shipper reviews the Department conducted a data query of entry information from Customs and Border Protection (CBP). We determined, based on our review of those data, that Micro and Pradeep had no entries during the period of review, and therefore do not qualify for an administrative review for the period February 1, 2005, through January 31, 2006. We also determined that expanding the normal period of review to include an entry and sale to an unaffiliated customer in the United States would likely prevent the completion of the new shipper review within the time limits set forth in section 751(a)(2)(B)(iv) of the Tariff Act of 1930, as amended (the Act), and 19 CFR 351.214(i). See 19 CFR 351.214(f)(2).

With respect to Rollwell, we determined that Rollwell does not qualify for a new shipper review because it had entries of subject merchandise that occurred prior to the entry it reported in its February 28, 2006, request for new shipper review. Therefore, the request does not satisfy the requirements of 19 CFR 351.214(b)(2)(iv)(A) and (C) because the submitted documentation does not establish the sale date or shipment date of Rollwell's actual first shipment to the United States. Furthermore, Rollwell did not submit its request for a new shipper review within one year of the first of its prior entries as required by 19 CFR 351.214(c). Moreover, Rollwell did not report the volume of sales subsequent to its first entry of subject merchandise, or even the volume of sales subsequent to the entry it reported in its February 28, 2006, request for a new shipper review. Therefore, Rollwell's request does not satisfy the requirements of 19 CFR 351.214(b)(2)(iv)(B). We have determined, however, that Rollwell qualifies for the administrative review initiated on April 5, 2006.

In a memorandum to the file dated August 23, 2006, the Department stated that it had determined (based on the reasons described above) that Micro, Pradeep, and Rollwell had not met the regulatory requirements for new shipper reviews, and we therefore intended to rescind the new shipper reviews with respect to these companies. See memorandum to the file dated August 23, 2006, regarding “Intent to Rescind New Shipper Reviews of Micro Forge (India), Ltd., Pradeep Metals, Ltd., and Rollwell Forge, Ltd., and to Continue the New Shipper Review of Kunj Forgings Pvt., Ltd.” We then invited parties to submit comments on our intent to rescind. We received no comments.

Scope of the Antidumping Duty Order

The products covered by this order are certain forged stainless steel flanges, both finished and not finished, generally manufactured to specification ASTM A-182, and made in alloys such as 304, 304L, 316, and 316L. The scope includes five general types of flanges. They are weld-neck, used for butt-weld line connection; threaded, used for threaded line connections; slip-on and lap joint, used with stub-ends/butt-weld line connections; socket weld, used to fit pipe into a machined recession; and blind, used to seal off a line. The sizes of the flanges within the scope range generally from one to six inches; however, all sizes of the above-described merchandise are included in the scope. Specifically excluded from the scope of this order are cast stainless steel flanges. Cast stainless steel flanges generally are manufactured to specification ASTM A-351. The flanges subject to this order are currently classifiable under subheadings 7307.21.1000 and 7307.21.5000 of the Harmonized Tariff Schedule of the United States (HTSUS). Although the HTSUS subheading is provided for convenience and customs purposes, the written description of the merchandise under review is dispositive of whether or not the merchandise is covered by the scope of the order.

Partial Rescission of New Shipper Reviews

We have determined, for the reasons given above, that Micro, Pradeep, and Rollwell do not qualify for new shipper reviews. Therefore, we are rescinding the new shipper reviews with respect to Micro and Pradeep in accordance with 19 CFR 351.214(f)(2). We are also rescinding the new shipper review with respect to Rollwell because its request for review does not meet the requirements of 19 CFR 351.214(b)(iv)(A), (B), and (C), and 19 CFR 351.214(c).

Notification

On August 17, 2006, the Pension Protection Act of 2006 (H.R. 4) was signed into law. Section 1632 of H.R. 4 temporarily suspends the authority of the Department to instruct U.S. Customs and Border Protection (CBP) to collect a bond or other security in lieu of a cash deposit in new shipper reviews. In accordance with H.R. 4, on August 18, 2006, the Department instructed CBP that importers will no longer have the option of posting a bond to fulfill security requirements for shipments of forged stainless steel flanges from India produced and exported by Kunj, Micro, Pradeep, and Rollwell, and entered, or withdrawn from warehouse, for consumption in the United States.

This notice also serves as the only reminder to any parties that are subject to administrative protective order (APO) of their responsibility concerning the disposition of proprietary information disclosed under APO in accordance with 19 CFR 351.305(a)(3). Timely written notification of the return/destruction of APO material or conversion to judicial protective order is hereby requested. Failure to comply with the regulations and terms of an APO is a violation which is subject to sanctions.

This notice is published in accordance with sections 751(a)(1) of the Act and 19 CFR 351.214(f)(3).

Dated: September 22, 2006.
Stephen J. Claeys,
Deputy Assistant Secretary for Import Administration.

[FR Doc. E6-16066 Filed 9-28-06; 8:45 am]

BILLING CODE 3510-DS-S